DEPARTMENT OF LABOR

Employment and Training Administration

[TA-W-81,638; TA-W-81,638A]

Lexisnexis, a Subsidiary of Reed Elsevier Customer Service Department and Fulfillment Department, Including On-Site Leased Workers From Manpower, Robert Half International, Corestaff Services, and Kforce Technology Including Remote Workers in New York Reporting to Miamisburg, OH; Lexisnexis, a Subsidiary of Reed Elsevier Customer Service Department and Fulfillment Department, Including On-Site Leased Workers From Manpower, Robert Half International, Corestaff Services, and Kforce Technology, Albany, NY; Amended Certification Regarding Eligibility To Apply for Worker Adjustment Assistance

In accordance with Section 223 of the Trade Act of 1974, as amended (“Act”), 19 U.S.C. 2273, the Department of Labor issued a Certification of Eligibility to Apply for Worker Adjustment Assistance on June 1, 2012, applicable to workers of Lexisnexis, a subsidiary of Reed Elsevier, Inc., Customer Service Department and Fulfillment Department, including on-site leased workers from Manpower, Robert Half International, Corestaff Services, and Kforce Technology, including remote workers in New York reporting to Miamisburg, Ohio, Miamisburg, Ohio. The Department's notice of determination was published in the Federal Register on June 28, 2012 (77 FR 38665).

At the request of a state workforce official, the Department reviewed the certification for workers of the subject firm. The workers are engaged in activities related to the supply of customer service and fulfillment services.

New information shows that some workers separated from employment at LexisNexis, Customer Service Department and Fulfillment Department with locations in Miamisburg, Ohio (TA-W-81,638) and Albany, New York (TA-W-81,638A) had their wages reported under a different subject firm name, namely Reed Elsevier which is the parent firm of LexisNexis.

The intent of the Department's certification is to include all workers of the subject firm who were adversely affected by a shift in services to a foreign country that is like or directly competitive to customer service and fulfillment supplied by the workers of the subject firm.

Accordingly, the Department is amending this certification to properly reflect this matter.

The amended notice applicable to TA-W-81,638 is hereby issued as follows:

All workers of LexisNexis, a subsidiary of Reed Elsevier, Customer Service Department and Fulfillment Department, including on-site leased workers from Manpower, Robert Half International, Corestaff Services and KForce Technology, including Remote Workers in New York reporting to Miamisburg, Ohio (TA-W-81,638) and LexisNexis, a subsidiary of Reed Elsevier, Customer Service Department and Fulfillment Department, including on-site leased workers from Manpower, Robert Half International, Corestaff Services, and Kforce Technology, Albany, New York (TA-W-81,638A), who became totally or partially separated from who became totally or partially separated from employment on or after May 18, 2011, through June 1, 2014, and all workers in the group threatened with total or partial separation from employment on date of certification through two years from the date of certification, are eligible to apply for adjustment assistance under Chapter 2 of Title II of the Trade Act of 1974, as amended.

Signed in Washington, DC, this July 13, 2012.
Michael W. Jaffe,
Certifying Officer, Office of Trade Adjustment Assistance.

[FR Doc. 2012-17998 Filed 7-23-12; 8:45 am]

BILLING CODE 4510-FN-P